DEPARTMENT OF TRANSPORTATION

Maritime Administration

[Docket No. MARAD 2004 18498]

Information Collection Available for Public Comments and Recommendations

ACTION: Notice and request for comments.

SUMMARY: In accordance with the Paperwork Reduction Act of 1995, this notice announces the Maritime Administration's (MARAD's) intention to request extension of approval for three years of a currently approved information collection.

DATES: Comments should be submitted on or before September 7, 2004.

FOR FURTHER INFORMATION CONTACT: Mitch Hudson, Maritime Administration, 400 Seventh St., SW., Washington, DC 20590. Telephone: (202) 366-9373; FAX: (202) 366-7485; or E-MAIL: mitch.hudson@marad.dot.gov. Copies of this collection also can be obtained from that office.

SUPPLEMENTARY INFORMATION: Title of Collection: Requirements for Establishing U.S. Citizenship.

Type of Request: Extension of currently approved information collection.

OMB Control Number: 2133-0012.

Form Numbers: None.

Expiration Date of Approval: Three years from date of approval by the Office of Management and Budget.

Summary of Collection of Information: In accordance with the Merchant Marine Act, 1936, participants in the various programs offered by the Maritime Administration (MARAD) must be citizens of the United States within the meaning of Section 2 of the Shipping Act, 1916, as amended. In addition, the participants in the programs must file annually an affidavit with MARAD attesting to their continuing citizenship.

Need and Use of the Information: MARAD will review the Affidavits of U.S. Citizenship to determine if the applicants are eligible to participate in the programs offered by the agency.

Description of Respondents: The Affidavits of U.S. Citizenship are filed with MARAD by shipowners, charterers, equity owners, ship managers, etc.

Annual Responses: 300 responses.

Annual Burden: 1,500 hours.

Comments: Comments should refer to the docket number that appears at the top of this document. Written comments may be submitted to the Docket Clerk, U.S. DOT Dockets, Room PL-401, 400 Seventh Street, SW, Washington, DC 20590. Comments also may be submitted by electronic means via the Internet at http://dms.dot.gov/submit. Specifically address whether this information collection is necessary for proper performance of the functions of the agency and will have practical utility, accuracy of the burden estimates, ways to minimize this burden, and ways to enhance the quality, utility, and clarity of the information to be collected. All comments received will be available for examination at the above address between 10 a.m. and 5 p.m. EDT (or EST), Monday through Friday, except Federal Holidays. An electronic version of this document is available on the World Wide Web at http://dms.dot.gov.

Privacy Act: Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78) or you may visit http://dms.dot.gov.

(Authority: 49 CFR 1.66.)

By Order of the Maritime Administrator.
Dated: July 1, 2004.
Joel C. Richard,
Secretary, Maritime Administration.

[FR Doc. 04-15339 Filed 7-6-04; 8:45 am]

BILLING CODE 4910-81-P